ENVIRONMENTAL PROTECTION AGENCY

[ER-FRL-6679-6]

Environmental Impacts Statements; Notice Of Availability

Responsible Agency: Office of Federal Activities, General Information (202) 564-7167 or http://www.epa.gov/compliance/nepa/.

Weekly receipt of Environmental Impact Statements

Filed 09/18/2006 Through 09/22/2006

Pursuant to 40 CFR 1506.9.

EIS No. 20060387, Final EIS, AFS, UT, West Fork Blacks Fork Allotment Management Plan, Proposes to Authorize Continued Livestock Grazing, Township 1 North, Range 11 East, Salt Lake Principle Meridan, Evanston Ranger District, Wasatch-Cache National Forest, Summit County, UT , Wait Period Ends: 10/30/2006, Contact: Amy Barker 307-789-3194

EIS No. 20060388, Final EIS, NOA, ME, Atlantic Herring Fishery Management Plan (FWP), Amendment 1, Management Measure Adjustment, Implementation, Gulf of Maine, George Bank, ME, Wait Period Ends: 10/30/2006, Contact: Paul Howard 978-465-3116

EIS No. 20060389, Final EIS, AFS, CA, Slapjack Project, Protect Rural Communities from Fire Hazards by Constructing Defensible Fuel Profile Zones (DFPZS), Feather River Ranger District, Plumas National Forest, Butte and Yuba Counties, CA , Wait Period Ends: 10/30/2006, Contact: Susan Joyce 530-534-6500

EIS No. 20060390, Final EIS, FHW, PA, Southern Beltway Transportation Project, Improvement from US-22 in Robinson Township to Interstate 79 in South Fayette Township and Cecil Township, Funding and U.S. Army COE Section 404 Permit, Washington, Allegheny Counties, PA, Wait Period Ends: 10/30/2006, Contact: Karyn E. Vandervoort 717-221-2276

EIS No. 20060391, Final EIS, NRC, MN, GENERIC—License Renewal of Nuclear Plants, Supplement 26 to NUREG 1437, Regarding Monticello Nuclear Generating Plant (TAC NO. MC6441) Renewal of Operating License DRP-22 for Additional 20-Years of Operation, Mississippi River, City of Monticello, Wright County, MN, Wait Period Ends: 10/30/2006, Contact: Laura Quinn 301-415-2220

EIS No. 20060392, Draft EIS, FRC, 00, North Baja Pipeline Expansion Project, Docket Nos. CP06-61-000 and CP01-23-000, Construction and Operation a Natural Gas Pipeline System, Land Use Plan Amendment, Right-of-Way Grant, Temporary Use Permits and U.S. Army COE Section 10 and 404 Permits, La Paz County, AZ and Riverside and Imperial Counties, CA, Comment Period Ends: 12/28/2006, Contact: Todd Sedmak 1-866-209-FERC

EIS No. 20060393, Final EIS, COE, 00, Kansas City's Levees, Missouri and Kansas Flood Damage Reduction Study, Improvements to the Existing Line of Protection, Birmingham, Jackson, Clay Counties, MO and Wyandotte County, KS, Wait Period Ends: 10/30/2006, Contact: Christopher M. White 816-389-3158

Amended Notices

EIS No. 20060131, Draft EIS, AFS, OR, Withdrawn—Kelsey Vegetation Management Project, Moving Resource Conditions Closer to the Goals and Desired Future Condition, Deschutes National Forest Land Resource Management Plan, Bend-Fort Rock Ranger District, Deschutes County, OR, Comment Period Ends: 05/30/2006, Contact: David Frantz 541-383-4721

Revision of FR Notice Published 04/14/2006: Officially Withdrawn by the Preparing Agency

EIS No. 20060337, Draft Supplement, COE, FL, Lake Okeechobee Regulation Schedule Study, Updated Information on Operational Changes to the Current Water Control Plan, Caloosahatchee and St. Lucie River Estuaries, Lake Okeechobee, FL, Comment Period Ends: 10/16/2006, Contact: Yvonne Haberer 904-232-1701

Revision of FR Notice Published 08/18/2006: Extend Comment Period from 10/02/2006 to 10/16/2006

EIS No. 20060348, Draft EIS, NPS, MN, Disposition of Bureau of Mines Property, Twin Cities Research Center Main Campus, Implementation, Hennepin County, MN, Comment Period Ends: 10/24/2006, Contact: Kim M. Berns 651-290-3030-x244

Revision of FR Notice Published 08/25/2006: Correction to Comment Period from 10/09/2006 to 10/24/2006

Dated: September 26, 2006.
Robert W. Hargrove,
Director, NEPA Compliance Division, Office of Federal Activities.

[FR Doc. E6-16055 Filed 9-28-06; 8:45 am]

BILLING CODE 6560-50-P